DEPARTMENT OF COMMERCE

National Oceanic and Atmospheric Administration

RIN 0648-XV81

Endangered and Threatened Species; Take of Anadromous Fish

AGENCY: National Marine Fisheries Service (NMFS), National Oceanic and Atmospheric Administration (NOAA), Commerce.

ACTION: Applications for three new scientific research permits.

SUMMARY: Notice is hereby given that NMFS has received three scientific research permit application requests relating to Pacific salmon. The proposed research is intended to increase knowledge of species listed under the Endangered Species Act (ESA) and to help guide management and conservation efforts. The applications may be viewed online at: https://apps.nmfs.noaa.gov/preview/preview_open_for_comment.cfm

DATES: Comments or requests for a public hearing on the applications must be received at the appropriate address or fax number (see ADDRESSES) no later than 5 p.m. Pacific standard time on June 1, 2010.

ADDRESSES: Written comments on the applications should be sent to the Protected Resources Division, NMFS, 1201 NE Lloyd Blvd., Suite 1100, Portland, OR 97232-1274. Comments may also be sent via fax to 503-230-5441 or by e-mail to nmfs.nwr.apps@noaa.gov.

FOR FURTHER INFORMATION CONTACT: Garth Griffin, Portland, OR (ph.: 503-231-2005, Fax: 503-230-5441, e-mail: Garth.Griffin@noaa.gov). Permit application instructions are available from the address above, or online at apps.nmfs.noaa.gov.

SUPPLEMENTARY INFORMATION:

Species Covered in This Notice

The following listed species are covered in this notice:

Chinook salmon (Oncorhynchus tshawytscha): threatened Puget Sound (PS).

Steelhead (O. mykiss): threatened PS.

Coho salmon (O. kisutch): threatened Oregon Coast (OC).

Authority

Scientific research permits are issued in accordance with section 10(a)(1)(A) of the ESA (16 U.S.C. 1531 et seq.) and regulations governing listed fish and wildlife permits (50 CFR 222-226). NMFS issues permits based on findings that such permits: (1) are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 15205

The Center for the Historical Ecology of the Salish Sea (KWIAHT) is seeking a five-year permit to take juvenile PS Chinook salmon while conducting research in the San Juan Islands of Washington state. The research is designed to help assess juvenile habitat use in the San Juan Islands. The researchers would collect information on patterns of prey use, contaminant accumulation, and Chinook stock structure in the study area. The research would benefit the listed species by helping direct habitat protection (especially those habitats linked to prey abundance and bioaccumulation of toxicants). The KWIAHT would capture fish (using beach seines); measure them; check them for marks, tags, and parasites; collect stomach contents and fin tissue samples; and release them. The researchers do not intend to kill any of the fish being captured but a small number may die as an unintended result of the research activities.

Permit 15230

Forest and Channel Metrics, Inc., (FCM) is seeking a five-year permit to take juvenile PS Chinook salmon and PS steelhead while conducting research in the Tolt River basin a tributary to the Snoqualmie River in northwest Washington State. The research is part of the Seattle City Light Department's effort to enhance salmonid habitat in the basin and the department would cooperate in the sampling. The researchers would collect information on juvenile salmonid status and distribution at the river-reach scale during different seasons of the year. The research would benefit listed species by helping direct habitat mitigation and enhancement efforts. The FCM researchers would capture fish (using boat electrofishing, backpack electrofishing, and seine nets); collect weights, lengths, and scale samples; and release them. A portion of the PS steelhead would be tagged with passive integrated transponders (PIT-tags). The researchers do not intend to kill any of the fish being captured but a small number may die as an unintended result of the research activities.

Permit 15235

The Oregon State University Department of Fish and Wildlife (OSU) is requesting a five-year scientific research to take juvenile Oregon Coast coho salmon. The purpose of the project is to study the effects of dam removal on aquatic and riparian habitats and on the abundance and diversity of vertebrates, invertebrates, and macrophytes. The OSU researchers would assess ecosystem conditions above and below Gold Ray Dam before and after dam removal. They would also assess ecosystem conditions at randomly selected sites throughout the main stem of the Rogue River. The information gathered by this research would benefit listed salmonids by helping resource managers evaluate how dam removal affects aquatic species. The applicant proposes to use boat electrofishing equipment to capture fish in the Rogue River from river-mile 5 up to Lost Creek Dam. Listed fish would be enumerated, measured, evaluated for health conditions, and released. The applicant does not intend to kill any listed fish species, but a small number may die as an unintended result of the activities.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: April 26, 2010.
Angela Somma,
Chief, Endangered Species Division, Office of Protected Resources, National Marine Fisheries Service.

[FR Doc. 2010-10157 Filed 4-29-10; 8:45 am]

BILLING CODE 3510-22-S